DEPARTMENT OF COMMERCE

International Trade Administration

[A-570-952]

Narrow Woven Ribbons With Woven Selvedge From the People's Republic of China: Final Determination of Sales at Less Than Fair Value

AGENCY: Import Administration, International Trade Administration, Department of Commerce.

DATES: Effective Date: July 19, 2010.

SUMMARY: On February 18, 2010, the Department of Commerce (the “Department”) published its preliminary determination of sales at less than fair value (“LTFV”) in the antidumping duty investigation of narrow woven ribbons with woven selvedge (“narrow woven ribbons”) from the People's Republic of China (“PRC”).¹ We invited interested parties to comment on our Preliminary Determination. Based on our analysis of the comments we received, we have made changes from the Preliminary Determination. We determine that narrow woven ribbons from the PRC are being, or are likely to be, sold in the United States at LTFV as provided in section 735 of the Tariff Act of 1930, as amended (“Act”). The final dumping margins for this investigation are listed in the “Final Determination Margins” section below.

¹ See Narrow Woven Ribbons with Woven Selvedge from the People's Republic of China: Preliminary Determination of Sales at Less Than Fair Value and Postponement of Final Determination, 75 FR 7244 (February 18, 2010) (“Preliminary Determination”).

FOR FURTHER INFORMATION CONTACT: Zhulieta Willbrand or Karine Gziryan, AD/CVD Operations, Office 4, Import Administration, International Trade Administration, U.S. Department of Commerce, 14th Street and Constitution Avenue, NW., Washington, DC 20230; telephone: (202) 482-3147 and (202) 482-4081, respectively.

SUPPLEMENTARY INFORMATION:

Case History

The period of investigation is January 1, 2009, through June 30, 2009. The Department published its preliminary determination of sales at LTFV and postponement of the final determination on February 18, 2010.² As explained in the memorandum from the Deputy Assistant Secretary for Import Administration, the Department has exercised its discretion to toll deadlines for the duration of the closure of the Federal Government from February 5, through February 12, 2010. Thus, all deadlines in this segment of the proceeding have been extended by seven days. The revised deadline for the final determination of this investigation is now July 12, 2010.³

² See Preliminary Determination.

³ See Memorandum to the Record from Ronald Lorentzen, DAS for Import Administration, regarding “Tolling of Administrative Deadlines As a Result of the Government Closure During the Recent Snowstorm,” dated February 12, 2010.

Between March 8, 2010 and March 12, 2010, the Department conducted verification of mandatory respondent Yama Ribbons and Bows Co., Ltd. (“Yama”).⁴

⁴ See the “Verification” section below for additional information.

On April 20, 2010, the Department received case briefs from: Berwick Offray LLC and its wholly owned subsidiary Lion Ribbon Company, Inc. (“Petitioner”); Yama; and Yangzhou Bestpak Gifts & Crafts Co., Ltd. (“Bestpak”). On April 26, 2010, the Department received rebuttal briefs from Petitioner, Yama, and Bestpak.

On June 14, 2010, the Department issued a memorandum to all interested parties requesting comment on two possible Harmonized Tariff Schedule (“HTS”) numbers (i.e., 6310.10.90 and 6310.90.90) that could be used as the surrogate value for scrap ribbon and scrap yarn.⁵ On June 18, 2010, we received comments from Yama and Petitioner.

⁵ See Memorandum to The File, Antidumping Investigation of Narrow Woven Ribbons with Woven Selvedge from the People's Republic of China: Surrogate Value for Scrap Yarn and Scrap Ribbon, dated June 14, 2010.

On June 14, 2010, in response to the U.S. Court of Appeals for the Federal Circuit's decision in Dorbest Limited et al. v. United States, 2009-1257, -1266 (May 14, 2010) (“Dorbest”), the Department issued a memorandum to inform all interested parties that the Department would reconsider its valuation of the labor wage rate, and to permit parties to comment on this issue.⁶ On June 21, 2010, we received comments from Yama and Petitioner. Additionally, on June 15 and 22, 2010, the Department issued a memorandum adding additional export data to the record related to the Department's determination of the surrogate value for labor.⁷ On June 21, 2010, Petitioner and Yama submitted comments regarding the wage rate issue. Further, on June 22, 2010, the Department issued another memorandum adding additional export data to the record related to the Department's determination of the surrogate value for labor.⁸ We received no additional comments. On July 1, 2010, the Department placed further data on the record regarding the wage rate issue.⁹ No party submitted comments.

⁶ See Memorandum to The File, Antidumping Duty Investigation of Narrow Woven Ribbons with Woven Selvedge from the People' Republic of China: Export Data, dated June 14, 2010.

⁷ See Memorandum to The File, Antidumping Duty Investigation of Narrow Woven Ribbons with Woven Selvedge from the People' Republic of China: Additional Export Data, dated June 15, 2010.

⁸ See Memorandum to The File, Antidumping Duty Investigation of Narrow Woven Ribbons with Woven Selvedge from the People' Republic of China: Additional Export Data, dated June 22, 2010.

⁹ See Memorandum to The File, Antidumping Duty Investigation of Narrow Woven Ribbons with Woven Selvedge from the People' Republic of China: Data on Labor Wage, dated July 1, 2010.

Analysis of Comments Received

All issues raised in the case and rebuttal briefs by parties to this investigation, as well as comments received pursuant to the Department's requests, are addressed in the “Narrow Woven Ribbons with Woven Selvedge from the People's Republic of China: Issues and Decision Memorandum for the Final Determination” (“Issues and Decision Memorandum”), dated concurrently with this notice and which is hereby adopted by this notice. A list of the issues which parties raised and to which we respond in the Issues and Decision Memorandum is attached to this notice as Appendix I. The Issues and Decision Memorandum is a public document and is on file in the Central Records Unit, Room 1117 of the main Commerce building, and is accessible on the World Wide Web at http://trade.gov/ia/index.asp. The paper copy and electronic version of the memorandum are identical in content.

Changes Since the Preliminary Determination

1. For the final determination, we have included a freight expense to transport liquid petroleum gas from the supplier to Yama's factory.¹⁰

¹⁰ See Final Analysis Memorandum for Yama Ribbons and Bows Co. Ltd., dated July 12, 2010 (“Yama's Analysis Memo”).

2. In the Preliminary Determination, 75 FR at 7249-50, we stated that for certain misreported packing materials' factors of production (“FOPs”) as facts available, we applied a simple average consumption rate for certain packing materials. At verification, we examined these packing materials. For the final determination, we have determined to use Yama's reported consumption rates for all its packing materials.¹¹

¹¹ See Yama's Analysis Memo.

3. We have recalculated the surrogate value for scrap using World Trade Atlas data for HTS number 6310.90.90.¹²

¹² See Yama's Analysis Memo.

4. Pursuant to a recent decision by the U.S. Court of Appeals for the Federal Circuit, we have calculated a revised hourly wage rate to use in valuing Yama's reported labor input by averaging earnings and/or wages in countries that are economically comparable to the PRC and that are significant producers of comparable merchandise.¹³

¹³ See Issues and Decision Memorandum at Comment 8.

5. For the final determination, we have included a new exclusion (i.e., exclusion 13) in the scope of investigation. See “Scope of Investigation” section, below.

Scope of Investigation

The merchandise subject to the investigation is narrow woven ribbons with woven selvedge, in any length, but with a width (measured at the narrowest span of the ribbon) less than or equal to 12 centimeters, composed of, in whole or in part, man-made fibers (whether artificial or synthetic, including but not limited to nylon, polyester, rayon, polypropylene, and polyethylene teraphthalate), metal threads and/or metalized yarns, or any combination thereof. Narrow woven ribbons subject to the investigation may:

• Also include natural or other non-man-made fibers;

• Be of any color, style, pattern, or weave construction, including but not limited to single-faced satin, double-faced satin, grosgrain, sheer, taffeta, twill, jacquard, or a combination of two or more colors, styles, patterns, and/or weave constructions;

• Have been subjected to, or composed of materials that have been subjected to, various treatments, including but not limited to dyeing, printing, foil stamping, embossing, flocking, coating, and/or sizing;

• Have embellishments, including but not limited to appliqué, fringes, embroidery, buttons, glitter, sequins, laminates, and/or adhesive backing;

• Have wire and/or monofilament in, on, or along the longitudinal edges of the ribbon;

• Have ends of any shape or dimension, including but not limited to straight ends that are perpendicular to the longitudinal edges of the ribbon, tapered ends, flared ends or shaped ends, and the ends of such woven ribbons may or may not be hemmed;

• Have longitudinal edges that are straight or of any shape, and the longitudinal edges of such woven ribbon may or may not be parallel to each other;

• Consist of such ribbons affixed to like ribbon and/or cut-edge woven ribbon, a configuration also known as an “ornamental trimming;”

• Be wound on spools; attached to a card; hanked (i.e., coiled or bundled); packaged in boxes, trays or bags; or configured as skeins, balls, bateaus or folds; and/or

• Be included within a kit or set such as when packaged with other products, including but not limited to gift bags, gift boxes and/or other types of ribbon.

Narrow woven ribbons subject to the investigation include all narrow woven fabrics, tapes, and labels that fall within this written description of the scope of this investigation.

Excluded from the scope of the investigation are the following:

(1) Formed bows composed of narrow woven ribbons with woven selvedge;

(2) “Pull-bows” (i.e., an assemblage of ribbons connected to one another, folded flat and equipped with a means to form such ribbons into the shape of a bow by pulling on a length of material affixed to such assemblage) composed of narrow woven ribbons;

(3) Narrow woven ribbons comprised at least 20 percent by weight of elastomeric yarn (i.e., filament yarn, including monofilament, of synthetic textile material, other than textured yarn, which does not break on being extended to three times its original length and which returns, after being extended to twice its original length, within a period of five minutes, to a length not greater than one and a half times its original length as defined in the Harmonized Tariff Schedule of the United States (“HTSUS”), Section XI, Note 13) or rubber thread;

(4) Narrow woven ribbons of a kind used for the manufacture of typewriter or printer ribbons;

(5) Narrow woven labels and apparel tapes, cut-to-length or cut-to-shape, having a length (when measured across the longest edge-to-edge span) not exceeding eight centimeters;

(6) Narrow woven ribbons with woven selvedge attached to and forming the handle of a gift bag;

(7) Cut-edge narrow woven ribbons formed by cutting broad woven fabric into strips of ribbon, with or without treatments to prevent the longitudinal edges of the ribbon from fraying (such as by merrowing, lamination, sono-bonding, fusing, gumming or waxing), and with or without wire running lengthwise along the longitudinal edges of the ribbon;

(8) Narrow woven ribbons comprised at least 85 percent by weight of threads having a denier of 225 or higher;

(9) Narrow woven ribbons constructed from pile fabrics (i.e., fabrics with a surface effect formed by tufts or loops of yarn that stand up from the body of the fabric);

(10) Narrow woven ribbon affixed (including by tying) as a decorative detail to non-subject merchandise, such as a gift bag, gift box, gift tin, greeting card or plush toy, or affixed (including by tying) as a decorative detail to packaging containing non-subject merchandise;

(11) Narrow woven ribbon that is (a) affixed to non-subject merchandise as a working component of such non-subject merchandise, such as where narrow woven ribbon comprises an apparel trimming, book marker, bag cinch, or part of an identity card holder, or (b) affixed (including by tying) to non-subject merchandise as a working component that holds or packages such non-subject merchandise or attaches packaging or labeling to such non-subject merchandise, such as a “belly band” around a pair of pajamas, a pair of socks or a blanket;

(12) Narrow woven ribbon(s) comprising a belt attached to and imported with an item of wearing apparel, whether or not such belt is removable from such item of wearing apparel; and

(13) Narrow woven ribbon(s) included with non-subject merchandise in kits, such as a holiday ornament craft kit or a scrapbook kit, in which the individual lengths of narrow woven ribbon(s) included in the kit are each no greater than eight inches, the aggregate amount of narrow woven ribbon(s) included in the kit does not exceed 48 linear inches, none of the narrow woven ribbon(s) included in the kit is on a spool, and the narrow woven ribbon(s) is only one of multiple items included in the kit.

The merchandise subject to this investigation is classifiable under the HTSUS categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS categories and subheadings are provided for convenience and customs purposes; however, the written description of the merchandise under investigation is dispositive.

Scope Comments

Prior to the preliminary determination in this case, we received a request from certain retailers of narrow woven ribbons that the Department modify the scope of the investigation to exclude narrow woven ribbons included in kits or sets in “de minimis” amounts. Because of concerns over whether the proposed scope exclusion language would be administrable, we declined to modify the scope in the Preliminary Determination, and we did not use the language suggested by these retailers or the alternative language proposed by the petitioner. See Preliminary Determination, 75 FR at 7240.

Following the preliminary determination, on March 24, 2010, and June 3, 2010, the petitioner submitted additional language for this scope exclusion. Having determined that the language contained in the petitioner's June 3, 2010, submission is administrable, we have incorporated this language in exclusion 13.¹⁴

¹⁴ See “the Scope of Investigation” section, above.

Verification

As provided in section 782(i) of the Act, we verified the information submitted by Yama for use in our final determination. We used standard verification procedures including examination of relevant accounting and production records, and original source documents provided by the respondent.¹⁵

¹⁵ See April 13, 2010 Memorandum to the File from Karine Gziryan and Zhulieta Willbrand, International Trade Compliance Specialists, AD/CVD Operations, Office 4, “Verification of the Sales and Factors Responses of Yama Ribbons and Bows Co., Ltd. in the Antidumping Investigation of Narrow Woven Ribbons with Woven Selvedge from the People's Republic of China” at 34 and Exhibit 22.

Surrogate Country

In the Preliminary Determination, we stated that we selected India as the appropriate surrogate country to use in this investigation for the following reasons: (1) It is a significant producer of comparable merchandise; (2) it is at a similar level of economic development pursuant to section 773(c)(4) of the Act; and (3) we have reliable data from India that we can use to value the FOPs.¹⁶ We received no comments on this issue after the Preliminary Determination, and we have made no changes to our findings with respect to the selection of a surrogate country for the final determination.

¹⁶ See Preliminary Determination.

Separate Rates

In proceedings involving non-market economy (“NME”) countries, the Department begins with a rebuttable presumption that all companies within the country are subject to government control and, thus, should be assigned a single antidumping duty deposit rate. It is the Department's policy to assign all exporters of merchandise subject to an investigation in an NME country this single rate unless an exporter can demonstrate that it is sufficiently independent so as to be entitled to a separate rate.¹⁷

¹⁷ See Final Determination of Sales at Less Than Fair Value: Sparklers from the People's Republic of China, 56 FR 20588 (May 6, 1991), as amplified by Notice of Final Determination of Sales at Less Than Fair Value: Silicon Carbide from the People's Republic of China, 59 FR 22585 (May 2, 1994), and 19 CFR 351.107(d).

In the Preliminary Determination, we found that the following companies demonstrated eligibility for separate-rate status: Beauty Horn Investment Limited; Fujian Rongshu Industry Co., Ltd.; Guangzhou Complacent Weaving Co., Ltd.; Ningbo MH Industry Co., Ltd.; Ningbo V.K. Industry & Trading Co., Ltd.; Stribbons (Guangzhou) Ltd.; Sun Rich (Asia) Limited; Tianjin Sun Ribbon Co., Ltd.; Weifang Dongfang Ribbon Weaving Co., Ltd.; Weifang Yu Yuan Textile Co., Ltd.; Xiamen Yi He Textile Co., Ltd; and Bestpak (collectively, the “Separate Rate Applicants”). Since the publication of the Preliminary Determination, no party has commented on the eligibility of the Separate Rate Applicants for separate-rate status. For the final determination, we continue to find that the evidence placed on the record of this investigation by the Separate Rate Applicants demonstrates both de jure and de facto absence of government control with respect to each company's respective exports of the merchandise under investigation. Thus, we continue to find that the Separate Rate Applicants are eligible for separate-rate status.

Normally the separate rate is determined based on the estimated weighted-average dumping margins established for exporters and producers individually investigated, excluding zero and de minimis margins or margins based entirely on adverse facts available (“AFA”).¹⁸ In this case, because there are no rates other than de minimis or those based on AFA, we have determined to take a simple average of the AFA rate assigned to the PRC-wide entity and the de minimis rate calculated for Yama as a reasonable method for purposes of determining the rate assigned to the Separate Rate Applicants.¹⁹ We note that this methodology is consistent with the Department's past practice.²⁰

¹⁸ See section 735(c)(5)(A) of the Act.

¹⁹ See section 735(c)(5)(B) of the Act.

²⁰ See Notice of Preliminary Determination of Sales at Less Than Fair Value and Postponement of Final Determination; Light-Walled Rectangular Pipe and Tube From the Republic of Korea, 73 FR 5794, 5800 (January 31, 2008), unchanged in Notice of Final Determination of Sales at Less Than Fair Value: Light-Walled Rectangular Pipe and Tube from the Republic of Korea, 73 FR 35655 (June 24, 2008); see also “Corroboration” section below.

The PRC-Wide Rate

In the Preliminary Determination, we found that certain PRC exporters/producers did not demonstrate that they operate free of government control over their export activities and did not respond to the Department's request for information.²¹ Thus, we treated these PRC exporters/producers as part of the PRC-wide entity and found that the PRC-wide entity did not respond to our requests for information.²² No additional information was placed on the record with respect to any of these companies after the Preliminary Determination. Additionally, in the Preliminary Determination, we determined that because Ningbo Jintian Import & Export Co., Ltd. (“Ningbo Jintian”) (i.e., a mandatory respondent) failed to submit responses to the Department's questionnaires, the Department has no basis upon which to grant Ningbo Jintian a separate rate. Accordingly, in the Preliminary Determination, we determined to treat Ningbo Jintian as part of the PRC-wide entity.²³ We received no comments on this determination.

²¹ See Preliminary Determination, 75 FR at 7250.

²² See id.

²³ See id.

Section 776(a)(2) of the Act provides that, if an interested party (A) Withholds information requested by the Department, (B) fails to provide such information by the deadline, or in the form or manner requested, (C) significantly impedes a proceeding, or (D) provides information that cannot be verified, the Department shall use, subject to section 782(d) of the Act, facts otherwise available in reaching the applicable determination. Since the PRC-wide entity did not provide the Department with requested information, pursuant to section 776(a)(2)(A) of the Act, we continue to find it appropriate to base the PRC-wide rate on facts available. Therefore, pursuant to section 776(a)(2)(A) of the Act, the Department continues to find that the use of facts available is appropriate to determine the PRC-wide rate.

Section 776(b) of the Act provides that, in selecting from among the facts otherwise available, the Department may employ an adverse inference if an interested party fails to cooperate by not acting to the best of its ability to comply with requests for information.²⁴ We determine that, because the PRC-wide entity did not respond to our requests for information, the PRC-wide entity has failed to cooperate to the best of its ability. Therefore, the Department finds that, in selecting from among the facts otherwise available, an adverse inference is appropriate for the PRC-wide entity.

²⁴ See Tapered Roller Bearings and Parts Thereof, Finished or Unfinished, from the People's Republic of China: Preliminary Results of Antidumping Duty Administrative Review and Notice of Rescission in Part and Intent to Rescind in Part, 72 FR 14078, 14079 (March 26, 2007), unchanged in Tapered Roller Bearings and Parts Thereof, Finished or Unfinished, from the People's Republic of China: Final Results of 2005-2006 Administrative Review and Partial Rescission of Review, 72 FR 56724 (October 4, 2007) and Tapered Roller Bearings and Parts Thereof, Finished and Unfinished, From the People's Republic of China: Amended Final Results of 2005-2006 Administrative Review, 72 FR 70302 (December 11, 2007). See also Statement of Administrative Action accompanying the Uruguay Round Agreements Act (“SAA”), H.R. Doc. No. 103-316, Vol. 1 (1994), at 870.

Because we begin with the presumption that all companies within an NME country are subject to government control, and because only Separate Rate Applicants have overcome that presumption, we are applying a single antidumping rate (i.e., the PRC-wide entity rate) to all other exporters of subject merchandise from the PRC. Such companies did not demonstrate entitlement to a separate rate.²⁵ The PRC-wide entity rate applies to all entries of subject merchandise except for entries from Yama and the Separate Rate Applicants.

²⁵ See, e.g., Synthetic Indigo From the People's Republic of China; Notice of Final Determination of Sales at Less Than Fair Value, 65 FR 25706 (May 3, 2000).

Corroboration

Section 776(c) of the Act provides that, when the Department relies on secondary information rather than on information obtained in the course of an investigation as facts available, it must, to the extent practicable, corroborate that information from independent sources reasonably at its disposal. Secondary information is described as “information derived from the petition that gave rise to the investigation or review, the final determination concerning merchandise subject to this investigation, or any previous review under section 751 concerning the merchandise subject to this investigation.” ²⁶ To “corroborate” means that the Department will satisfy itself that the secondary information to be used has probative value. Independent sources used to corroborate may include, for example, published price lists, official import statistics and customs data, and information obtained from interested parties during the particular investigation. To corroborate secondary information, the Department will, to the extent practicable, examine the reliability and relevance of the information used.²⁷

²⁶ See Final Determination of Sales at Less Than Fair Value: Sodium Hexametaphosphate From the People's Republic of China, 73 FR 6479, 6481 (February 4, 2008), quoting SAA at 870.

²⁷ See Tapered Roller Bearings and Parts Thereof, Finished and Unfinished, From Japan, and Tapered Roller Bearings, Four Inches or Less in Outside Diameter, and Components Thereof, From Japan; Preliminary Results of Antidumping Duty Administrative Reviews and Partial Termination of Administrative Reviews, 61 FR 57391, 57392 (November 6, 1996), unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997).

The AFA rate that the Department used is drawn from the petition, as adjusted to reflect the CAFC's decision in Dorbest. See Issues and Decision Memorandum at Comment 1. Petitioner's methodology for calculating the United States price and normal value (“NV”) in the petition is discussed in the Initiation Notice.²⁸ In the Preliminary Determination, we assigned to the PRC-wide entity the margin alleged in the petition, i.e., 247.65 percent.²⁹ For the final determination, we have continued to assign to the PRC-wide entity the rate of 247.65 percent. To corroborate the AFA margin that we have selected, we compared it to the model-specific margins we found for the participating mandatory respondent, Yama. We found that the margin of 247.65 percent has probative value because it is in the range of Yama's model-specific margins.³⁰ Accordingly, we find that the rate of 247.65 percent is corroborated within the meaning of section 776(c) of the Act.³¹

²⁸ See Narrow Woven Ribbons with Woven Selvedge from the People's Republic of China and Taiwan: Initiation of Antidumping Duty Investigations, 74 FR 39291 (August 6, 2009) (“Initiation Notice”)

²⁹ See Preliminary Determination, 75 FR at 7251.

³⁰ See Yama's Analysis Memo.

³¹ See Issues and Decision Memorandum at Comment 12; see also July 12, 2010 Memorandum to the File from Karine Gziryan, International Trade Analyst, AD/CVD Operations, Office 4, “Antidumping Investigation of Narrow Woven Ribbons with Woven Selvedge from the People's Republic of China: Proprietary Memorandum regarding Corroboration”.

Combination Rates

In the Initiation Notice, the Department stated that it would calculate combination rates for respondents that are eligible for a separate rate in this investigation.³² This practice is described in Policy Bulletin 05.1, available at http://ia.ita.doc.gov/.

³² See Initiation Notice, 74 FR at 39297.

{w}hile continuing the practice of assigning separate rates only to exporters, all separate rates that the Department will now assign in its NME investigations will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation. (Emphasis in original).

Final Determination Margins

The Department determines that the following dumping margins exist for the period January 1, 2009, through June 30, 2009:

Exporter | Producer | Weighted-average percent margin
Yama Ribbons and Bows Co., Ltd | Yama Ribbons and Bows Co., Ltd | 0
Beauty Horn Investment Limited | Tianjin Sun Ribbon Co., Ltd | 123.83
Fujian Rongshu Industry Co., Ltd | Fujian Rongshu Industry Co., Ltd | 123.83
Guangzhou Complacent Weaving Co., Ltd | Guangzhou Complacent Weaving Co., Ltd | 123.83
Ningbo MH Industry Co., Ltd | Hangzhou City Linghu Jiacheng Silk Ribbon Co., Ltd | 123.83
Ningbo V.K. Industry & Trading Co., Ltd | Ningbo Yinzhou Jinfeng Knitting Factory | 123.83
Stribbons (Guangzhou) Ltd | Stribbons (Guangzhou) Ltd | 123.83
Stribbons (Guangzhou) Ltd | Stribbons (Nanyang) MNC Ltd | 123.83
Sun Rich (Asia) Limited | Dongguan Yi Sheng Decoration Co., Ltd | 123.83
Tianjin Sun Ribbon Co., Ltd | Tianjin Sun Ribbon Co., Ltd | 123.83
Weifang Dongfang Ribbon Weaving Co., Ltd | Weifang Dongfang Ribbon Weaving Co., Ltd | 123.83
Weifang Yu Yuan Textile Co., Ltd | Weifang Yu Yuan Textile Co., Ltd | 123.83
Xiamen Yi He Textile Co., Ltd | Xiamen Yi He Textile Co., Ltd | 123.83
Yangzhou Bestpak Gifts & Crafts Co., Ltd | Yangzhou Bestpak Gifts & Crafts Co., Ltd | 123.83
PRC-wide Entity* |  | 247.65
* (Including Ningbo Jintian Import & Export Co., Ltd.).

Continuation of Suspension of Liquidation

In accordance with section 735(c)(1)(B) of the Act, the Department will instruct U.S. Customs and Border Protection (“CBP”) to continue to suspend liquidation of all entries of narrow woven ribbons from the PRC, as described in the “Scope of Investigation” section, above, entered, or withdrawn from warehouse, for consumption on or after February 18, 2010, the date of publication of the Preliminary Determination in the Federal Register. The Department will instruct CBP to require a cash deposit or the posting of a bond equal to the weighted-average dumping margin amount by which the NV exceeds U.S. price, as follows: (1) The rate for the exporter/producer combinations listed in the chart above will be the rate the Department has determined in this final determination; (2) for all PRC exporters of subject merchandise which have not received their own rate, the cash-deposit rate will be the PRC-wide entity rate; and (3) for all non-PRC exporters of subject merchandise which have not received their own rate, the cash-deposit rate will be the rate applicable to the PRC exporter/producer combination that supplied that non-PRC exporter.

Additionally, as the Department has determined in its companion countervailing duty (“CVD”) final determination of narrow woven ribbons from the PRC (dated concurrently with this notice) that the product under investigation, exported and produced by Yama, benefitted from an export subsidy, we will instruct CBP to require an antidumping cash deposit or posting of a bond equal to the weighted-average amount by which the NV exceeds the export price, as indicated above, minus the amount determined to constitute an export subsidy. See, e.g., Notice of Final Determination of Sales at Less Than Fair Value: Carbazole Violet Pigment 23 From India, 69 FR 67306, 67307 (November 17, 2004). Therefore, for the separate rate respondents, we will instruct CBP to require an antidumping duty cash deposit or the posting of a bond for each entry equal to the weighted-average margin indicated above adjusted for the export subsidy rate determined in the CVD final determination (i.e., International Market Development Fund Grants for Small and Medium Enterprises). The adjusted cash deposit rate for the separate rate respondents (as listed above in the “Final Determination Margins” section, above) is 123.44 percent. These suspension-of-liquidation instructions will remain in effect until further notice.

International Trade Commission Notification

In accordance with section 735(d) of the Act, the Department notified the U.S. International Trade Commission (“ITC”) of its final determination of sales at LTFV. As the Department's final determination is affirmative, in accordance with section 735(b)(2) of the Act, within 45 days the ITC will determine whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess, upon further instruction by the Department, antidumping duties on all imports of the subject merchandise entered, or withdrawn from warehouse, for consumption on or after the effective date of the suspension of liquidation.

Notification Regarding APO

This notice also serves as a reminder to the parties subject to administrative protective order (“APO”) of their responsibility concerning the disposition of proprietary information disclosed under APO in accordance with 19 CFR 351.305. Timely notification of return or destruction of APO materials or conversion to judicial protective order is hereby requested. Failure to comply with the regulations and the terms of an APO is a sanctionable violation.

This determination is issued and published in accordance with sections 735(d) and 777(i)(1) of the Act.

Dated: July 12, 2010.
Ronald K. Lorentzen,
Deputy Assistant Secretary for Import Administration.

Appendix I

Issues for Final Determination

Comment 1: Whether the Department should recalculate the petition margin with the preliminary surrogate value for labor

Comment 2: Whether to apply a scrap offset in deriving Yama's normal value

Comment 3: Whether to set additional processing revenue to zero for all sales and cap freight revenue

Comment 4: Whether to include freight expenses for the input Liquid Petroleum Gas (“LPG”)

Comment 5: Whether to deduct Yama's bank charges from U.S. price

Comment 6: Whether to apply Adverse Facts Available for some of Yama's sales

Comment 7: Whether to apply Facts Available to estimate commissions on Yama's U.S. Sales

Comment 8: Whether the Department should revise its labor rate calculation

Comment 9: Whether to assign Bestpak the calculated margin assigned to Yama as its separate rate

Comment 10: Whether to select an additional respondent

Comment 11: Whether to calculate Bestpak's separate rate using its quantity and value information

Comment 12: Whether the AFA rate was sufficiently corroborated

[FR Doc. 2010-17568 Filed 7-16-10; 8:45 am]

BILLING CODE 3510-DS-P